DEPARTMENT OF TRANSPORTATION

Federal Aviation Administration

Type Validation and Post-Type Validation Procedures

AGENCY: Federal Aviation Administration (DOT).

ACTION: Notice of availability and requests for public comment.

SUMMARY: This notice announces the availability of and requests comments on a proposed order. The proposed order establishes the type certification principles and responsibilities pertaining to imported and exported aircraft, aircraft engines and propellers.

DATES: Comments must identify the Order and arrive by October 3, 2003.

ADDRESSES: Send all comments on the proposed order to: Federal Aviation Administration, Aircraft Certification Service, Aircraft Engineering Division, Room 815, 800 Independence Avenue, SW., Washington, DC 20591. ATTN: Gregory A. Edwards, AIR-110. Or, deliver comments to: Federal Aviation Administration, Room 815, 800 Independence Avenue, SW., Washington, DC 20591.

FOR FURTHER INFORMATION CONTACT: Gregory A. Edwards, Aerospace Engineer, Federal Aviation Administration, Aircraft Certification Service, Aircraft Engineering Division, Certification Procedures Branch, AIR-110, Room 815, 800 Independence Avenue, SW., Washington, DC 20591, Telephone (202) 267-9287, FAX (202) 267-5340. E-mail: greg.edwards@faa.gov.

SUPPLEMENTAL INFORMATION:

Comments Invited

You may comment on the proposed order listed in this notice by sending written data, views, or arguments to the above listed address. You may also examine comments received on the proposed order, before and after the comment closing date, in Room 815, FAA Headquarters Building, 800 Independence Avenue, SW., Washington, DC 20591, weekdays except Federal holidays, between 8:30 a.m. and 4:30 p.m. The Director of the Aircraft Certification Service will consider all communications received by the closing date before issuing the final order.

Background

This order addresses several type certification issues. It defines the principles guiding FAA certification personnel who certificate imported and exported aircraft, aircraft engines, and propellers. It also explains how to ensure the continued airworthiness of imported and exported products, and lists the duties of the importing authority, the exporting authority, and the applicant.

How To Get Copies

You may get a copy of the proposed order via the Internet at http://www.faa.gov/certification/aircraft/8110-TVP.htm, or by contacting the person listed in the section titled FOR FURTHER INFORMATION CONTACT.

Issued in Washington, DC, on August 28, 2003.
Susan J. M. Cabler,
Deputy Manager, Aircraft Engineering Division, Aircraft Certification Service.

[FR Doc. 03-22566 Filed 9-4-03; 8:45 am]

BILLING CODE 4910-13-M